COMMISSION ON CIVIL RIGHTS

Sunshine Act Meeting Notice

AGENCY: U.S. Commission on the Social Status of Black Men and Boys (CSSBMB), U.S. Commission on Civil Rights (CRC).

ACTION: Notice of CSSBMB public business meeting.

DATES: Friday, June 7; 11:00 a.m.-12:00 p.m. EDT.

ADDRESSES: Meeting to take place at U.S. Commission on Civil Rights (USCCR) headquarters and virtually on U.S. Commission on Civil Rights' official YouTube channel: https://youtube.com/live/oST5qtvdwSI.

FOR FURTHER INFORMATION CONTACT: Diamond Newman, 202-339-2371,dnewman@usccr.gov.

SUPPLEMENTARY INFORMATION: In accordance with Public Law 116-156, 1134 Stat. 700 (2020), the U.S. Commission on the Social Status of Black Men and Boys (CSSBMB) will hold its third quarter business meeting. This business meeting is open to the public via livestream on the U.S. Commission on Civil Rights' official YouTube channel at https://youtube.com/live/oST5qtvdwSI. (Streaming information subject to change.) Public participation is available for the event with view access, along with an audio option for listening. Computer assisted real-time transcription (CART) will be provided. The web link to access CART (in English) on June 7 is http://upload.youtube.com/closedcaption?cid=faem-bz2w-gq0r-btyz-64jw. Please note that CART is text-only translation that occurs in real time during the meeting and is not an exact transcript.

* Date and meeting details are subject to change. For more information on CSSBMB or the upcoming public briefing, please visit cssbmb.gov and CSSBMB's Instagram, Facebook, and X.

Dated: May 31, 2024.
Zakee Martin,
Deputy Director, United States Commission on the Social Status of Black Men & Boys, United States Commission on Civil Rights (USCCR).

[FR Doc. 2024-12321 Filed 6-6-24; 11:15 am]

BILLING CODE P